DEPARTMENT OF ENERGY

[Docket No. 23-34-LNG]

Gulfstream LNG Development, LLC; Amendment to Application for Long-Term Authorization To Export Liquefied Natural Gas to Non-Free Trade Agreement Nations

AGENCY: Office of Fossil Energy and Carbon Management, Department of Energy.

ACTION: Notice of amended application.

SUMMARY: The Office of Fossil Energy and Carbon Management (FECM) of the Department of Energy (DOE) gives notice (Notice) of receipt of an Amendment to Application (Amendment) filed by GULFSTREAM LNG DEVELOPMENT, LLC (Gulfstream LNG) on March 22, 2024, and corrected on April 4, 2024. Gulfstream LNG is amending its pending Application requesting authorization to export liquefied natural gas (LNG) filed on March 10, 2023, to change the site of its proposed LNG export project in Plaquemines Parish, Louisiana. No other part of the pending Application is affected. Gulfstream LNG filed the Amendment under the Natural Gas Act (NGA).

DATES: Protests, motions to intervene, or notices of intervention, as applicable, requests for additional procedures, and written comments are to be filed electronically as detailed in the Public Comment Procedures section no later than 4:30 p.m., Eastern time, June 6, 2024.

ADDRESSES:

Electronic Filing by email (Strongly encouraged): fergas@hq.doe.gov.

Postal Mail, Hand Delivery, or Private Delivery Services (e.g., FedEx, UPS, etc.): U.S. Department of Energy (FE-34), Office of Regulation, Analysis, and Engagement, Office of Fossil Energy and Carbon Management, Forrestal Building, Room 3E-056, 1000 Independence Avenue SW, Washington, DC 20585.

Due to potential delays in DOE's receipt and processing of mail sent through the U.S. Postal Service, we encourage respondents to submit filings electronically to ensure timely receipt.

FOR FURTHER INFORMATION CONTACT:

Jennifer Wade or Peri Ulrey, U.S. Department of Energy (FE-34), Office of Regulation, Analysis, and Engagement, Office of Resource Sustainability, Office of Fossil Energy and Carbon Management, Forrestal Building, Room 3E-042, 1000 Independence Avenue SW, Washington, DC 20585, (202) 586-4749 or (202) 586-7893, jennifer.wade@hq.doe.gov or peri.ulrey@hq.doe.gov

Cassandra Bernstein, U.S. Department of Energy (GC-76), Office of the Assistant General Counsel for Energy Delivery and Resilience, Forrestal Building, Room 6D-033, 1000 Independence Avenue SW, Washington, DC 20585, (202) 586-4798, cassandra.bernstein@hq.doe.gov

SUPPLEMENTARY INFORMATION: On March 10, 2023, Gulfstream LNG filed an Application requesting long-term, multi-contract authorization to export domestically produced LNG in a volume equivalent to 237.5 billion cubic feet per year (Bcf/yr) of natural gas from the proposed Gulfstream LNG Project (Project), a LNG export project to be located in Plaquemines Parish, Louisiana. In the portion of the Application relevant here, Gulfstream LNG is seeking to export this LNG to any country with which the United States does not have a free trade agreement (FTA) requiring national treatment for trade in natural gas, and with which trade is not prohibited by United States law or policy (non-FTA countries), under section 3(a) of the NGA.¹ In the Application, Gulfstream LNG proposed to construct and locate the Project “on an approximately 500-acre parcel of land south of the town of Belle Chasse, Plaquemines Parish, Louisiana.” ²

¹ 15 U.S.C. 717b(a). On June 26, 2023, in DOE/FECM Order No. 5014, DOE granted the portion of the Application requesting authorization to export LNG to FTA countries under section 3(c) of the NGA, 15 U.S.C. 717b(c). That authorization is not subject to this Notice.

² GULFSTREAM LNG DEVELOPMENT, LLC; Application for Long-Term Authorization to Export Liquefied Natural Gas to Non-Free Trade Agreement Nations; Notice of Application, 88 FR 23023 (Apr. 14, 2023).

In the Amendment to the Application, Gulfstream LNG indicates that it was necessary to change the site for the Project. The new site “is on an approximate 418-acre parcel of land located south of the town of Belle Chasse, Plaquemines Parish, Louisiana, just three miles downstream on the same side of [the] river from the original site.” ³ Gulfstream LNG states that it has executed a Ground Lease for the new Project site with the owner of the site, Magnolia Terminal, LLC, which is attached to the Amendment as Exhibit A. Gulfstream LNG further states that the new site does not necessitate any other changes to the Project, and therefore “this Amendment does not affect any other part of Gulfstream LNG's original Application.” ⁴ On April 4, 2024, Gulfstream LNG submitted a revised Exhibit B to the Amendment showing the map and site plan for the Project.

³ GULFSTREAM LNG DEVELOPMENT, LLC, Amendment to Application for Long-Term Authorization to Export Liquefied Natural Gas to Free Trade Agreement and Non-Free Trade Agreement Nations, Docket No. 23-34-LNG, at 2 (Mar. 22, 2024).

⁴ Id.

Additional details can be found in the Amendment, posted on the DOE website at https://www.energy.gov/sites/default/files/2024-03/GulfstreamLNGAmendmentApplication.pdf.

DOE Evaluation

In reviewing Gulfstream LNG's Amendment to its pending Application, DOE will consider any issues required by law or policy under NGA section 3(a), DOE's regulations, and any documents deemed appropriate. Parties that may oppose this Amendment should comment in their responses on any issues relevant to the Amendment.

The National Environmental Policy Act (NEPA), 42 U.S.C. 4321 et seq., requires DOE to give appropriate consideration to the environmental effects of its proposed decisions. No final decision will be issued in this proceeding until DOE has met its environmental responsibilities.

Public Comment Procedures

In response to this Notice, any person may file a protest, comments, or a motion to intervene or notice of intervention, as applicable, addressing the Amendment. Interested parties will be provided 30 days from the date of publication of this Notice in which to submit comments, protests, motions to intervene, or notices of intervention. The public previously was given an opportunity to intervene in, protest, and comment on Gulfstream LNG's Application in Docket No. 23-34-LNG.⁵ Therefore, DOE will not consider comments or protests that do not bear directly on the proposed site change described in the Amendment.

⁵ See supra note 2.

Any person wishing to become a party to this proceeding evaluating Gulfstream LNG's Amendment must file a motion to intervene or notice of intervention. The filing of comments or a protest with respect to the Amendment will not serve to make the commenter or protestant a party to this proceeding, although protests and comments received from persons who are not parties will be considered in determining the appropriate action to be taken on the Amendment. All protests, comments, motions to intervene, or notices of intervention must meet the requirements specified by the regulations in 10 CFR part 590, including the service requirements.

Filings may be submitted using one of the following methods:

(1) Submitting the filing electronically at fergas@hq.doe.gov;

(2) Mailing the filing to the Office of Regulation, Analysis, and Engagement at the address listed in the ADDRESSES section; or

(3) Hand delivering the filing to the Office of Regulation, Analysis, and Engagement at the address listed in the ADDRESSES section.

For administrative efficiency, DOE prefers filings to be filed electronically. All filings must include a reference to “Docket No. 23-34-LNG” or “Gulfstream LNG Amendment” in the title line.

For electronic submissions: Please include all related documents and attachments (e.g., exhibits) in the original email correspondence. Please do not include any active hyperlinks or password protection in any of the documents or attachments related to the filing. All electronic filings submitted to DOE must follow these guidelines to ensure that all documents are filed in a timely manner.

The Amendment, and any filed protests, motions to intervene, notices of intervention, and comments will be available electronically on the DOE website at www.energy.gov/fecm/regulation.

A decisional record on the Amendment will be developed through responses to this Notice by parties, including the parties' written comments and replies thereto. Additional procedures will be used as necessary to achieve a complete understanding of the facts and issues. If an additional procedure is scheduled, notice will be provided to all parties. If no party requests additional procedures, a final Order may be issued based on the official record, including the Amendment and responses filed by parties pursuant to this Notice, in accordance with 10 CFR 590.316.

Signed in Washington, DC, on May 2, 2024.
Amy Sweeney,
Director, Office of Regulation, Analysis, and Engagement, Office of Resource Sustainability.

[FR Doc. 2024-09884 Filed 5-6-24; 8:45 am]

BILLING CODE 6450-01-P